DEPARTMENT OF THE INTERIOR

Fish and Wildlife Service

[FWS-HQ-IA-2012-N242: FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before November 9, 2012. We must receive requests for marine mammal permit public hearings, in writing, at the address shown in the ADDRESSES section by November 9, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: La Coma Ranch, Inc., McAllen, TX; PRT-81989A

The applicant requests a captive-bred wildlife registration under 50 CFR 17.21(g) for the scimitar-horned oryx (Oryx dammah) to enhance the species' propagation or survival. This notification covers activities to be conducted by the applicant over a 5-year period.

Applicant: La Coma Ranch, Inc., McAllen, TX; PRT-83021A

The applicant requests a permit authorizing interstate and foreign commerce, export, and cull of excess scimitar-horned oryx (Oryx dammah) from the captive herd maintained at their facility, for the purpose of enhancement of the survival of the species. This notification covers activities to be conducted by the applicant over a 5-year period.

Applicant: K & R Ranch, Pearsall, TX; PRT-83017A

The applicant requests a captive-bred wildlife registration under 50 CFR 17.21(g) for the scimitar-horned oryx (Oryx dammah) to enhance the species' propagation or survival. This notification covers activities to be conducted by the applicant over a 5-year period.

Applicant: Bar H Bar Land & Cattle Co., Lampasas, TX; PRT-63871A

The applicant requests amendment of their captive-bred wildlife registration under 50 CFR 17.21(g) to include the addax (Addax nasomaculatus) to enhance their propagation or survival. This notification covers activities to be conducted by the applicant over a 5-year period.

Applicant: Bar H Bar Land & Cattle Co., Lampasas, TX; PRT-63872A

The applicant requests amendment to include the addax (Addax nasomaculatus) to their permit authorizing interstate and foreign commerce, export, and cull of excess from the captive herd maintained at their facility, for the purpose of enhancement of the survival of the species. This notification covers activities to be conducted by the applicant over a 5-year period.

Applicant: Simon Ranch, LLC, Junction, TX; PRT-83803A

The applicant requests a captive-bred wildlife registration under 50 CFR 17.21(g) for the barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: Simon Ranch, LLC, Junction, TX; PRT-83802A

The applicant requests a permit authorizing interstate and foreign commerce, export, and cull of excess barasingha (Rucervus duvaucelii) and scimitar-horned oryx (Oryx dammah) from the captive herd maintained at their facility, for the purpose of enhancement of the survival of the species. This notification covers activities to be conducted by the applicant over a 5-year period.

Applicant: Ronald Rains, Roosevelt, TX; PRT-85530A

The applicant requests a captive-bred wildlife registration under 50 CFR 17.21(g) for the barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: Ronald Rains, Roosevelt, TX; PRT-85528A

The applicant requests a permit authorizing interstate and foreign commerce, export, and cull of excess scimitar-horned oryx (Oryx dammah), addax (Addax nasomaculatus), dama gazelle (Nanger dama), and red lechwe (Kobus leche) from the captive herd maintained at their facility, for the purpose of enhancement of the survival of the species. This notification covers activities to be conducted by the applicant over a 5-year period.

Applicant: Kirk Thor, Irving, TX; PRT-227200

The applicant requests renewal of their captive-bred wildlife registration under 50 CFR 17.21(g) for the radiated tortoise (Astrochelys radiata) to enhance their propagation or survival. This notification covers activities to be conducted by the applicant over a 5-year period.

Applicant: Burmont, Inc., Jacksboro, TX; PRT-84250A

The applicant requests a captive-bred wildlife registration under 50 CFR 17.21(g) for the barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: Burmont, Inc., Jacksboro, TX; PRT-85525A

The applicant requests a permit authorizing interstate and foreign commerce, export, and cull of excess scimitar-horned oryx (Oryx dammah), addax (Addax nasomaculatus), and red lechwe (Kobus leche), from the captive herd maintained at their facility, for the purpose of enhancement of the survival of the species. This notification covers activities to be conducted by the applicant over a 5-year period.

Applicant: Zoological Society of Cincinnati, Cincinnati, OH; PRT-681252

The applicant requests renewal of their captive-bred wildlife registration under 50 CFR 17.21(g) for the following families and species, to enhance their propagation or survival. This notification covers activities to be conducted by the applicant over a 5-year period.

Families

Bovidae

Felidae (does not include jaguar, margay or ocelot)

Hominidae

Hylobatidae

Lemuridae

Lorisidae

Rhinocerotidae

Gruidae

Psittacidae (does not include thick-billed parrots)

Boidae

Species

Asian elephant (Elephas maximus)

Applicant: City of Idaho Falls, dba Tautphaus Park Zoo, Idaho Falls, ID; PRT-819063

The applicant requests renewal of their captive-bred wildlife registration under 50 CFR 17.21(g) for the following families and species, to enhance their propagation or survival. This notification covers activities to be conducted by the applicant over a 5-year period.

Families

Lemuridae

Hylobatidae

Species

Snow leopard (Uncia uncia)

Amur tiger (Panthera tigris altaica)

Cotton-top tamarin (Saguinus oedipus)

Goeldi's marmoset (Callimico goeldii)

Jackass penguin (Spheniscus demersus)

Manchurian crane (Grus japonensis)

Applicant: Woodland Park Zoological, Seattle, WA; PRT-668695

The applicant requests renewal of their captive-bred wildlife registration under 50 CFR 17.21(g) for the following families, genera and species, to enhance their propagation or survival. This notification covers activities to be conducted by the applicant over a 5-year period.

Families

Felidae (does not include Jaguar, margay or ocelot)

Hominidae

Lemuridae

Cebidae

Bovidae

Gruidae

Genus

Tragopan

Species

Asian tapir (Tapirus indicus)

Lion-tailed macaque (Macaca silenus)

Rothschild's starling (Leucopsar rothschildi)

Komodo Island monitor (Varanus komodoensis)

African dwarf crocodile (Osteolaemus tetraspis)

Siamang gibbon (Hylobates syndactylus)

Lesser slow loris (Nycticebus pygmaeus)

Asian elephant (Elephas maximus)

Pudu (Pudu puda)

African wild dog (Lycaon pictus)

Humboldt penguin (Spheniscus humboldti)

Tracaja (Podocnemis unifilis)

Aruba Island rattlesnake (Crotalus unicolor)

Indian python (Python molurus molurus)

Panamanian golden frog (Atelopus zeteki)

Applicant: Duke Lemur Center, Durham, NC; PRT-679042

The applicant requests renewal of their captive-bred wildlife registration under 50 CFR 17.21(g) for the following families, to enhance their propagation or survival. This notification covers activities to be conducted by the applicant over a 5-year period.

Families

Lemuridae

Cheirogaleidae

Indriidae

Lepilemur

Daubentoniidae

Applicant: Omaha's Henry Doorly Zoo, Omaha, NE; PRT-63260A

The applicant requests a permit to export live, captive-bred Mississippi gopher frog (Rana capito sevosa) for the purpose of enhancement of the survival of the species.

Applicant: Kevin Loewengruber, Southgate, MI; PRT-140165

The applicant requests renewal of their captive-bred wildlife registration under 50 CFR 17.21(g) for the radiated tortoise (Astrochelys radiata) to enhance their propagation or survival. This notification covers activities to be conducted by the applicant over a 5-year period.

Applicant: Phoenix Herpetological Society, Inc., Scottsdale, AZ; PRT-19818A

The applicant requests amendment of their captive-bred wildlife registration under 50 CFR 17.21(g) to include crocodylidae and spotted pond turtle (Geoclemys hamiltonii) to enhance their propagation or survival. This notification covers activities to be conducted by the applicant over a 5-year period.

Applicant: Willeke Wildlife Taxidermy, San Angelo, TX; PRT-79589A

The applicant requests a permit to export the sport-hunted trophy/trophies of one addax (Addax nasomaculatus) culled from a captive herd maintained in the state of Texas, for the purpose of enhancement of the survival of the species.

Applicant: Willeke Wildlife Taxidermy, San Angelo, TX; PRT-79587A

The applicant requests a permit to export the sport-hunted trophy/trophies of one scimitar-horned oryx (Oryx dammah) and one addax (Addax nasomaculatus) culled from a captive herd maintained in the state of Texas, for the purpose of enhancement of the survival of the species.

Multiple Applicants

The following applicants each request a permit to import the sport-hunted trophy of one male bontebok (Damaliscus pygargus pygargus) culled from a captive herd maintained under the management program of the Republic of South Africa, for the purpose of enhancement of the survival of the species.

Applicant: Johnny Rutherford, Houston, TX; PRT-83842A

Applicant: Gene Day, Lubbock, TX; PRT-86415A

B. Endangered Marine Mammals and Marine Mammals

Applicant: Sea World Parks & Entertainment, Inc., Orlando, FL; PRT-83724A

The applicant requests a permit to import one of two female walruses (Odobenus rosmarus) that were captive bred at and would be exported by Kamogawa Sea World, Kamogawa, and Chiba, Japan; for the purpose of public display at Sea World San Diego.

Concurrent with publishing this notice in the Federal Register, we are forwarding copies of the above applications to the Marine Mammal Commission and the Committee of Scientific Advisors for their review.

Brenda Tapia,
Program Analyst/Data Administrator, Branch of Permits, Division of Management Authority.

[FR Doc. 2012-24913 Filed 10-9-12; 8:45 am]

BILLING CODE 4310-55-P